DEPARTMENT OF HOUSING AND URBAN DEVELOPMENT

[Docket No. FR-5308-N-01]

Notice of Availability: Implementation of the Tax Credit Assistance Program (TCAP)

AGENCY: Office of the Assistant Secretary for Community Planning and Development, HUD.

ACTION: Notice.

SUMMARY: Through this notice, HUD announces the availability on its Web site of the submission requirements, eligible uses, fund commitment and expenditure deadlines, fund distribution, and other requirements for the Tax Credit Assistance Program authorized by Section 2, Division A, Title XII of the American Recovery and Reinvestment Act of 2009 (Pub. L. 111-5, approved February 17, 2009). TCAP funding is eligible to be used for capital investment in eligible Low-Income Housing Tax Credit (LIHTC) projects. A major purpose of TCAP funds is to immediately create jobs or save jobs in danger of being lost due to the current economic crisis. Approximately $2.250 billion is allocated for this purpose under the heading of the HOME Investment Partnerships Program (HOME). The available funding will be allocated to state housing credit agencies based on the percentage of the 2008 HOME appropriation received by the state and local participating jurisdictions within the state. The housing credit agencies of each state, the District of Columbia, and the Commonwealth of Puerto Rico are the only eligible grantees of the TCAP program. The notice establishing the program and application requirements for these funds, allocation information, and eligibility criteria is available on the HUD Web site at: http://www.hud.gov/recovery/tax-credit.cfm.

FOR FURTHER INFORMATION CONTACT: Clifford Taffet, Director, Office of Affordable Housing, Office of Community Planning and Development, Department of Housing and Urban Development, 451 7th Street, SW., Room 7162, Washington DC 20410-3000; telephone 1-800-998-9999. Hearing- or speech-impaired individuals may access the voice telephone number listed above by calling the toll-free Federal Information Relay Service during working hours at 800-877-8339.

Dated: April 14, 2009.
Nelson R. Bregón,
General Deputy Assistant Secretary for Community Planning and Development.

[FR Doc. E9-10686 Filed 5-6-09; 8:45 am]

BILLING CODE 4210-67-P